DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 22, 2008.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permit is published in accordance with Part 107 of the Federal hazardous materials transportation law (49 U.S.C. 5117(b); 49 CFR 1.53(b)).

Issued in Washington, DC, on July 10, 2008.
Delmar F. Billings,
Director, Office of Hazardous Materials, Special Permits and Approvals.

New Special Permits
Application No. | Docket No. | Applicant | Regulation(s) affected | Nature of special permits thereof
14721-N |  | Pacific Bio-Material Management, Inc. dba Pacific Scientific Transport Fresno, CA | 49 CFR 173.196, 178.609 | To authorize the one-way transportation in commerce of certain Category infectious substances by motor vehicle in alternative packaging. (mode 1).
14722-N |  | Centronic LLC | 49 CFR 173.302a, 173.306(b)(4) and 175.3 | To authorize the manufacture, marking, sale and use of non-DOT specification containers described as hermetically-sealed electron tube devices for the transportation of certain non-flammable compressed gases. (modes 1, 2, 3, 4, 5).
14723-N |  | American Spray-tech, North Branch, NJ | 49 CFR I 73.306(a)(3)(v) | To authorize the transportation in commerce of certain aerosols containing a Division 2.2 compressed gas in certain non-refillable aerosol containers which are not subject to the hot water bath test. (mode 1).
14724-N |  | Formulated Solutions, Clearwater, FL | 49 CFR 173.306(a)(3)(v) | To authorize the manufacture, marking, sale and use of a bag-on-valve container for the transportation of non-flammable aerosols which have been tested by an alternative method in lieu of the hot water bath test. (modes 1, 3, 4, 5).
14726-N |  | Thermo King Corporation, Minneapolis, MN | 49 CFR 177.834(1) | To authorize the transportation in commerce of certain hazardous materials in a motor vehicle equipped with a cargo heater. (mode 1).
14728-N |  | International Isotopes Inc., Idaho Falls, ID | 49 CFR 173.416(c) | To authorize the transportation in commerce of existing Type B packagings contructed to DOT-Specification 6M, 20 WC or 21 WC for the transportation of radioactive material by motor vehicle. (mode 1).
14733-N |  | GTM Technologies, Inc., San Francisco, CA | 49 CFR 173.301, 173.302a, 173.304a, 173.312 and 178.75 | To authorize the manufacture, marking, sale and use of a steel freight container mounted with non-DOT Specification cylinders for transportation of helium and methane. (mode 1).
14734-N |  | Chlor Alkai, Olin Corporation, Cleveland, TN | 49 CFR 172.203(a), 173.26 and 179.13 | To authorize the transportation in commerce of Sodium hypochlorite in DOT specification 111A100W5 tank car tanks that exceed the maximum allowable gross weight on rail (263,000 lbs.). (mode 2).

[FR Doc. E8-16437 Filed 7-22-08; 8:45 am]

BILLING CODE 4909-60-M